DEPARTMENT OF COMMERCE

National Oceanic and Atmospheric Administration

RIN 0648-XG598

Atlantic Highly Migratory Species (HMS); Atlantic HMS Tournament Registration and Reporting; Selection of All Atlantic HMS Tournaments for Reporting

AGENCY: National Oceanic and Atmospheric Administration (NOAA), Commerce.

ACTION: Notice.

SUMMARY: NMFS announces that all Atlantic HMS tournaments will be selected for reporting beginning on January 1, 2019. Previously, only a portion of Atlantic HMS tournaments were selected for reporting. An Atlantic HMS tournament is a tournament that awards points or prizes for catching Atlantic HMS (i.e., swordfish, billfish, sharks and/or tunas). When selected for reporting, Atlantic HMS tournament operators are required to submit an HMS tournament catch summary report within seven days after tournament fishing has ended. NMFS uses the data to estimate the total annual catch of HMS and the impact of tournament operations in relation to other types of fishing activities.

DATES: Selection of all Atlantic HMS tournaments for reporting will begin January 1, 2019.

FOR FURTHER INFORMATION CONTACT: Nicolas Alvarado at 727-209-5955 or 727-824-5398 (fax), or email Nicolas.Alvarado@noaa.gov.

SUPPLEMENTARY INFORMATION:

The U.S. Atlantic HMS fisheries are managed under the 2006 Consolidated HMS Fishery Management Plan and its amendments. Implementing regulations at 50 CFR part 635 are issued under the authority of the Magnuson-Stevens Fishery Conservation and Management Act (Magnuson-Stevens Act), 16 U.S.C. 1801 et seq., and the Atlantic Tunas Convention Act (ATCA), 16 U.S.C. 971 et seq. ATCA authorizes the Secretary of Commerce to promulgate regulations, as may be necessary and appropriate, to implement recommendations of the International Commission for the Conservation of Atlantic Tunas.

An Atlantic HMS tournament is a tournament that awards points or prizes for catching Atlantic HMS (swordfish, billfish, sharks and/or tunas). Existing regulations at § 635.5(d) require Atlantic HMS tournament operators to register their tournaments with NMFS four weeks in advance of the tournament. When registering, operators must provide contact information and the tournament's date(s), location(s), and target species. In addition, HMS tournament registration provides a method for tournament operators to request educational and regulatory outreach materials from NMFS.

In addition to requiring tournament operators to register, the regulations at § 635.5(d) also authorize NMFS to select HMS tournaments for reporting. Currently, all billfish and swordfish tournaments are selected for reporting. When selected for reporting, Atlantic HMS tournament operators are required to submit an HMS tournament catch summary report within seven days after tournament fishing has ended.

NMFS recently developed the online Atlantic Tournament Registration and Reporting (ATR) system that allows tournament operators to easily register their tournaments and report. For over a year, NMFS received positive feedback from tournament operators about the ease of use of the ATR system.

In this notice, NMFS announces that all Atlantic HMS tournaments, not just billfish and swordfish tournaments, will be selected for reporting beginning on January 1, 2019. The estimated burden to the public for all HMS tournaments to report has already been approved under the Paperwork Reduction Act (OMB 0648-0323). NMFS does not expect the burden on tournaments to increase as most of the catch data in the summary report is routinely collected in the course of regular tournament operations and all tournament operators may use the ATR system to report. NMFS uses the data collected in these reports to estimate the total annual catch of HMS and the potential impacts to tournament operations in relation to other types of fishing activities. For more information about Atlantic HMS tournament registration and reporting, please go to https://www.fisheries.noaa.gov/atlantic-highly-migratory-species/atlantic-highly-migratory-species-tournaments.

Dated: December 7, 2018.
Karen H. Abrams,
Acting Director, Office of Sustainable Fisheries, National Marine Fisheries Service.

[FR Doc. 2018-26895 Filed 12-11-18; 8:45 am]

BILLING CODE 3510-22-P